DEPARTMENT OF LABOR

Employment and Training Administration

[TA-W-37,335]

Calvin Klein New York, NY; Amended Certification Regarding Eligibility To Apply for Worker Adjustment Assistance

In accordance with Section 223 of the Trade Act of 1974 (19 U.S.C. 2273) the Department of Labor issued a Notice of Certification Regarding Eligibility to Apply for Worker Adjustment Assistance on March 30, 2000, applicable to workers of Calvin Klein, New York, New York. The notice was published in the Federal Register on April 21, 2000 (FR 65 21474).

At the request of the State agency, the Department reviewed the certification for workers of the subject firm. The workers produce women's sportswear. New findings show that there was a previous certification, TA-W-33,830, issued on March 10, 2000, for workers of Calvin Klein, New York, New York who were engaged in employment related to the production of women's sportswear. That certification expired March 10, 2000. To avoid an overlap in worker group coverage, the certification is being amended to change the impact date from February 1, 1999 to March 11, 2000, for workers of the subject firm.

The amended notice applicable to TA-W-37,335 is hereby issued as follows:

“All workers of Calvin Klein, New York, New York who became totally or partially separated from employment on or after March 11, 2000 through March 30, 2002 are eligible to apply for adjustment assistance under Section 223 of the Trade Act of 1974.”

Signed at Washington, DC, this 9th day of May 2000.
Grant D. Beale,
Program Manager, Division of Trade Adjustment Assistance.

[FR Doc. 00-12770 Filed 5-19-00; 8:45 am]

BILLING CODE 4510-30-M